DEPARTMENT OF HEALTH AND HUMAN SERVICES

National Institutes of Health

Submission for OMB Review; 30-Day Comment Request; National Institutes of Health—Fellow Forms

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Patricia Wagner, Program Analyst, Office of Intramural Research (OIR), Office of the Director (OD), National Institutes of Health (NIH); 2 Center Drive: Building 2/Room 2E06; Bethesda, Maryland 20892 or call non-toll-free number 240-476-3619 or email your request, including your address to: wagnerpa@od.nih.gov.

SUPPLEMENTARY INFORMATION: This proposed information collection was previously published in the Federal Register on July 30, 2024, page 61130 (89 FR 61130) and allowed 60 days for public comment. One public comment was received. The purpose of this notice is to allow an additional 30 days for public comment. The Office of the Director, National Institutes of Health, may not conduct or sponsor, and the respondent is not required to respond to, an information collection that has been extended, revised, or implemented on or after October 1, 1995, unless it displays a currently valid Office of Management and Budget (OMB) control number.

In compliance with Section 3507(a)(1)(D) of the Paperwork Reduction Act of 1995, the National Institutes of Health (NIH) has submitted to the Office of Management and Budget (OMB) a request for review and approval of the information collection listed below.

Proposed Collection: National Institutes of Health (NIH)—Fellow Forms, 0925-New—expiration date, Office of Intramural Research (OIR), Office of the Director (OD), National Institutes of Health (NIH).

Need and Use of Information Collection: The NIH Intramural Research Program (NIH IRP) administers a variety of programs, initiatives, and activities to train future biomedical scientists. Fellows participating in the NIH IRP are provided financial assistance through one of the following appointment mechanisms: Intramural Research Training Award (IRTA), Cancer Research Training Award (CRTA), and Visiting Fellow (VF). Recently, NIH IRP fellows voted to form a union. To comply with federal regulations governing engagement with a union, the NIH IRP created a series of collection forms.

OMB approval is requested for 3 years. There are no costs to respondents other than their time. The total estimated annualized burden hours are 135.

Estimated Annualized Burden Hours
Form name | Type of respondent | Number of respondents | Number of responses per respondent | Average burden per response (in hours) | Total annual burden hour
Dues Deduction Request | NIH Trainees | 600 | 1 | 3/60 | 30
Dues Deduction Cancellation | NIH Trainees | 600 | 1 | 3/60 | 30
Grievance Report | NIH Trainees | 300 | 1 | 15/60 | 75
Total | n/a | 1,500 | 1,500 | n/a | 135

Dated: October 15, 2024.
Lawrence A. Tabak,
Principal Deputy Director, National Institutes of Health.

[FR Doc. 2024-24337 Filed 10-21-24; 8:45 am]

BILLING CODE 4140-01-P